DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Monthly Survey of Residential Alterations and Repairs.

Form Number(s): SORAR-705.

Agency Approval Number: 0607-0130.

Type of Request: Extension of a currently approved collection.

Burden: 5,100.

Number of Respondents: 1,700.

Avg Hours per Response: 15 minutes.

Needs and Uses: The U.S. Census Bureau requests an extension of the currently approved collection for the Monthly Survey of Residential Alterations and Repairs. The Census Bureau is responsible for preparing estimates of the expenditures for residential improvement and repairs. This segment of the construction industry amounted to more than $198 billion in 2004. While the majority of the data are gathered from the Consumer Expenditure Survey (OMB number 1220-0050), a portion of the data ($55 billion in 2004) are collected on the SORAR-705 form. This survey is mailed to a sample of owners of rental or vacant residential properties. Since residential improvement and repairs are a large and growing economic sector, any measure of the construction industry would be incomplete without the inclusion of these data.

The Census Bureau uses the information collected on Form SORAR-705 to publish improvement and repair expenditures for rental and vacant residential properties. Data on improvements and repairs to owner-occupied properties are collected in the Consumer Expenditure Survey. Combined published estimates are used by a variety of private businesses and trade associations for marketing studies, economic forecasts and assessments of the construction industry. They also provide all levels of Government with a tool to evaluate economic policy and measure progress toward established goals. For example, the Bureau of Economic Analysis (BEA) uses the Census Bureau's improvement statistics to develop the residential structures component of the gross private domestic investment in the national income and product accounts.

Affected Public: Individuals or households; Businesses or other for-profit.

Frequency: Monthly.

Respondent's Obligation: Voluntary.

Legal Authority: Title 13 U.S.C. 182.

OMB Desk Officer: Susan Schechter, (202) 395-5103.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: June 22, 2006,
Madeleine Clayton,
Management Analyst, Office of the Chief Information Officer.

[FR Doc. E6-10144 Filed 6-27-06; 8:45 am]

BILLING CODE 3510-07-P